DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting of the Arizona Resource Advisory Council (RAC).

The business meeting will be held on September 6, 2006, in St. George, Utah, at the Arizona Strip District Office located at 245 East Riverside Drive. It will begin at 9 a.m. and conclude at 4 p.m.—Mountain Standard Time. The agenda items to be covered include: Review of the March 2 and June 8, 2006, Meeting Minutes; BLM State Director's Update on Statewide Issues; Presentations BLM's Vermilion Cliffs National Monument—Coyote Buttes North; and growing interest in uranium mining on the Arizona Strip; Updates on the Recreation Resource Advisory Committee, and Arizona Land Use Planning; RAC Questions on written reports from BLM Field Managers; Field Office Rangeland Resource Team Proposals; Reports by the Standards and Guidelines, Recreation, Off-Highway Vehicle Use, Public Relations, Land Use Planning and Tenure, and Wild Horse and Burro Working Groups; Reports from RAC members; and discussion of future meetings. A public comment period will be provided at 11:30 a.m. on September 6, 2006, for any interested publics who wish to address the Council.

FOR FURTHER INFORMATION CONTACT: Deborah Stevens, Bureau of Land Management, Arizona State Office, One North Central Avenue, Suite 800, Phoenix, Arizona 85004-4427, (602) 417-9215.

Joanie Losacco,
Acting Arizona State Director.

[FR Doc. 06-6890 Filed 8-11-06; 8:45 am]

BILLING CODE 4310-32-M